DEPARTMENT OF STATE

[Public Notice 8994]

Determination Under Section 7012 of the Department of State, Foreign Operations, and Related Programs Appropriations Act, 2014, Relating to Assistance to Zimbabwe

Pursuant to the authority vested in me by section 7012 of the Department of State, Foreign Operations, and Related Programs Appropriations Act, 2014 (Div. K, P.L. 113-76) (SFOAA), E.O. 12163, as amended by E.O. 13346, and Delegation of Authority 245-1, I hereby determine that targeted assistance to Zimbabwe for health, good governance, education, leadership, family planning, agriculture and food security, poverty reduction, livelihoods, and macroeconomic growth including anti-corruption efforts, helping victims of trafficking, and combatting trafficking, as well as the continuation of assistance that would have a significant adverse effect on vulnerable populations if suspended, are in the national interest of the United States and thereby waive, with respect to Zimbabwe, the application of section 7012 of the SFOAA for such assistance.

This determination shall be reported to Congress and published in the Federal Register.

Dated: November 24, 2014.
Heather Higginbottom,
Deputy Secretary of State for Management and Resources.

[FR Doc. 2014-30962 Filed 1-5-15; 8:45 am]

BILLING CODE 4710-26-P